DEPARTMENT OF HOUSING AND URBAN DEVELOPMENT

[Docket No. FR-5909-N-06]

30-Day Notice of Proposed Information Collection: Manufactured Housing Survey

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: March 25, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on October 2, 2015 at 80 FR 59810.

A. Overview of Information Collection

Title of Information Collection: Manufactured Housing Survey.

OMB Approval Number: 2528-0029.

Type of Request: Revision of currently approved collection.

Form Number: C-MH-9A.

Description of the need for the information and proposed use: The Manufactured Housing Survey collects data on new manufactured homes that are sold or leased for residential use. The survey tracks shipments of manufactured homes to dealers and the sales price and characteristics of sampled units. Beginning in fiscal year 2015, dealers are contacted once to obtain sales price and characteristics of the unit. If the unit has been placed by the time Census contacts the dealer, additional placement data are collected. Other selected housing characteristics collected include size, location, and titling. HUD uses the statistics to respond to a Congressional mandate in the Housing and Community Development Act of 1980, 42 U.S.C. 5424 note, which requires HUD to collect and report manufactured home sales and price information for the nation, census regions, states, and selected metropolitan areas and to monitor whether new manufactured homes are being placed on owned rather than rented lots. HUD also uses these data to monitor total housing production and its affordability. Furthermore, the Manufactured Housing Survey serves as the basis for HUD's mandated indexing of loan limits. Section 2145 (b) of the Housing and Economic Recovery Act (HERA) of 2008 requires HUD to develop a method of indexing to annually adjust Title I manufactured home loan limits. This index is based on manufactured housing price data collected by this survey. Section 2145 of the HERA of 2008 also amends the maximum loan limits for manufactured home loans insured under Title I. HUD implemented the revised loan limits, as shown below, for all manufactured home loans for which applications are received on or after March 3, 2009.

Respondents (i.e. affected public): Business firms or other for-profit institutions.

Estimated Number of Respondents: 4,860.

Estimated Number of Responses: 4,860.

Frequency of Response: Once.

Average Hours per Response: .20 minutes.

Total Estimated Burdens: 1,620.

Hourly Cost Per Response: $0.

Estimated Total Annual Cost: The only cost to respondents is their time. The annual cost of the survey is $404,000.

Respondent's Obligation: Voluntary.

Legal Authority: Title 42 U.S.C. 5424 note, Title 13 U.S.C. Section 8(b), and Title 12, U.S.C., Section 1701z-1.

Loan type | Purpose | Old loan limit | New loan limit
MANUFACTURED HOME IMPROVEMENT LOAN | For financing alterations, repairs and improvements upon or in connection with existing manufactured homes | $17,500 | $25,090
MANUFACTURED HOME UNIT(S) | To purchase or refinance a Manufactured Home unit (s) | 48,600 | 69,678
LOT LOAN | To purchase and develop a lot on which to place a manufactured home unit | 16,200 | 23,226
COMBINATION LOAN FOR LOT AND HOME | To purchase or refinance a manufactured home and lot on which to place the home | 64,800 | 92,904

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

C. Authority

Section 3507 of the Paperwork Reduction Act of 1995, 44 U.S.C. Chapter 35.

Dated: February 19, 2016.
Colette Pollard,
Department Reports Management Officer, Office of the Chief Information Officer.

[FR Doc. 2016-03912 Filed 2-23-16; 8:45 am]

BILLING CODE 4210-67-P